ENVIRONMENTAL PROTECTION AGENCY

40 CFR Part 52

[EPA-R01-OAR-2025-0249; FRL-12888-02-R1]

Air Plan Approval; Rhode Island; Amendments to Motor Vehicle Inspection and Maintenance Program

AGENCY: Environmental Protection Agency (EPA).

ACTION: Final rule.

SUMMARY: The Environmental Protection Agency (EPA) is approving a State Implementation Plan (SIP) revision submitted by the State of Rhode Island. This revision is an amended regulation for the Enhanced Motor Vehicle Inspection and Maintenance (I/M) program in Rhode Island. Overall, the submittal removes obsolete references, adds definitions, and clarifies the Rhode Island I/M program requirements, which consist primarily of conducting Onboard Diagnostics (OBD) testing. The intended effect of this action is to approve of the State's amended I/M program regulation into the Rhode Island SIP. This action is being taken in accordance with the Clean Air Act.

DATES: This rule is effective on December 18, 2025.

ADDRESSES: EPA has established a docket for this action under Docket Identification No. EPA-R01-OAR-2025-0249. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection.

FOR FURTHER INFORMATION CONTACT: Ayla Martinelli, Air Quality Branch, U.S. Environmental Protection Agency, EPA Region 1, 5 Post Office Square—Suite 100, (Mail code 5-MI), Boston, MA 02109-3912, tel. (617) 918-1057, email: martinelli.ayla@epa.gov.

SUPPLEMENTARY INFORMATION: Throughout this document whenever “we,” “us,” or “our” is used, we mean EPA.

Table of Contents

I. Background and Purpose

II. Response to Comments

III. Final Action

IV. Incorporation by Reference

V. Statutory and Executive Order Reviews

I. Background and Purpose

On July 28, 2025 (90 FR 35491), EPA published a Notice of Proposed Rulemaking (NPRM) for the State of Rhode Island. The NPRM proposed approval of amendments to Rhode Island's I/M Program. The formal SIP revision was submitted by Rhode Island on December 20, 2023. The rationale for EPA's proposed action is explained in the NPRM and will not be restated here. Two public comments were received on the NPRM.

II. Response to Comments

EPA received two comments during the comment period, which are available in the docket of this rulemaking. One comment supports EPA's proposed action. The other comment recognizes that Rhode Island's SIP revision focuses on “improving test procedures and administrative alignment,” but urges EPA to consider encouraging states to incorporate carbon dioxide (CO2) monitoring into their I/M programs, making Rhode Island's aggregated I/M data publicly available for the purpose of supporting state and regional planning for greenhouse gas (GHG) reductions, aligning I/M programs with GHG reduction targets, and “integrating CO2 into I/M program design and evaluation.”

First, to the extent the comment urges broad changes to motor vehicle I/M program requirements, it is outside the scope of EPA's proposed action here, which evaluated revisions to Rhode Island's program only. Second, the comment does not provide any statutory or regulatory support for its positions, and it does not assert that the CAA requires EPA to disapprove an I/M program SIP revision that does not include the suggested program components or considerations.

EPA reviews a state's submittal for compliance with CAA requirements, and EPA is required to approve a SIP revision that complies with those requirements. CAA § 110(k)(3); 40 CFR 52.02(a). This EPA action concerns Rhode Island's I/M program SIP revision submitted in accordance with CAA § 182 and EPA's I/M regulations at 40 CFR part 51, subpart S. Under the CAA, Rhode Island is required to implement an enhanced I/M program that addresses hydrocarbon (or VOC) emissions and NOX emissions. CAA § 182(c)(3). There is no legal requirement for Rhode Island to address CO2 emissions in its I/M SIP revision. As EPA explained in the NPRM, the revisions to Rhode Island's I/M regulation are consistent with the CAA's I/M requirements and EPA's I/M regulations, are administrative in nature, and will not interfere with attainment or maintenance of any NAAQS or with any other applicable requirement of the CAA. The comment does not disagree with these assertions. Accordingly, EPA is finalizing the action as proposed.

III. Final Action

EPA is approving Rhode Island's December 20, 2023, SIP submittal containing the revised motor vehicle I/M program as a revision to the Rhode Island SIP.

IV. Incorporation by Reference

In this rule, the EPA is finalizing regulatory text that includes incorporation by reference. In accordance with requirements of 1 CFR 51.5, the EPA is finalizing the incorporation by reference of Rhode Island's Air Pollution Control Regulation (APCR) No. 34—Rhode Island Motor Vehicle Inspection and Maintenance Program described in the amendments to 40 CFR part 52 set forth below. The EPA has made, and will continue to make, these documents generally available through https://www.regulations.gov and at the EPA Region 1 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 20, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: October 8, 2025.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart OO—Rhode Island

2. In § 52.2070(c), amend the table by revising the entry “Air Pollution Control Regulation 34” to read as follows:

§ 52.2070 Identification of plan.

* * * * *

(c) * * *

EPA-Approved Rhode Island Regulations
State citation | Title/subject | State effective date | EPA approval date | Explanations
* * * * * * *
Air Pollution Control Regulation 34 | Rhode Island Motor Vehicle Inspection/Maintenance Program | 12/25/2018 | 11/18/2025 90 FR 11/18/25 | Department of Environmental Management regulation containing I/M standards. Approving all sections.
* * * * * * *

* * * * *

[FR Doc. 2025-20143 Filed 11-17-25; 8:45 am]

BILLING CODE 6560-50-P